DEPARTMENT OF COMMERCE

International Trade Administration

[A-570-827]

Certain Cased Pencils From the People's Republic of China: Rescission of Antidumping Duty Administrative Review; 2011-2012

AGENCY: Import Administration, International Trade Administration, Department of Commerce.

SUMMARY: The Department of Commerce (Department) is rescinding the administrative review of the antidumping duty order on certain cased pencils (pencils) from the People's Republic of China (PRC) for the period December 1, 2011, through November 30, 2012, based on the withdrawal of the review request by one company and on the revocation of the order with respect to the second company for which a review was requested.

DATES: Effective: September 4, 2013.

FOR FURTHER INFORMATION CONTACT: Mary Kolberg at (202) 482-1785; AD/CVD Operations, Office 1, Import Administration, International Trade Administration, U.S. Department of Commerce, 14th Street and Constitution Avenue NW., Washington, DC 20230.

SUPPLEMENTARY INFORMATION:

Background

On January 30, 2013, the Department initiated an administrative review of the antidumping duty order on pencils from the PRC for the period December 1, 2011, through November 30, 2012, based on self-requests by Beijing Fila Dixon Stationery Company, Ltd. and Orient International Holding Shanghai Foreign Trade Co., Ltd. (SFTC).1 2 On February 4, 2013, SFTC withdrew its request for review. On July 18, 2013, the Department published the final results of the 2010-2011 administrative review of pencils from the PRC, in which it revoked the antidumping duty order on pencils (pencils order) with respect to Dixon effective December 1, 2011.³

¹ Beijing Fila Dixon Stationery Company, Ltd. is also known as Beijing Dixon Ticonderoga Stationery Company, Ltd., Beijing Dixon Stationery Company, Ltd., and Dixon Ticonderoga Company (collectively, Dixon).

² See Initiation of Antidumping and Countervailing Duty Administrative Reviews and Requests for Revocation in Part, 78 FR 6291 (January 30, 2013).

³ See Certain Cased Pencils From the People's Republic of China: Final Results of Antidumping Duty Administrative Review and Determination To Revoke Order In Part; 2010-2011, 78 FR 42932 (July 18, 2013), and accompanying Issues and Decision Memorandum (“Pencils 2010-2011 Final”).

Rescission of Administrative Review

Pursuant to 19 CFR 351.213(d)(l), the Department will rescind an administrative review, in whole or in part, if the party that requested a review withdraws the request within 90 days of the publication of the notice of initiation of the requested review. In this case, SFTC withdrew its request within the 90-day deadline. Therefore, in accordance with 19 CFR 351.213(d)(1), we are rescinding the instant review with respect to SFTC.

In addition, since, the Department revoked the pencils order with respect to Dixon effective December 1, 2011, the instant review is moot with respect to Dixon. Therefore, we are rescinding the review with respect to Dixon.

Therefore, because no other parties requested a review of this order for this period, we are rescinding the administrative review of the pencils order covering the period December 1, 2011, through November 30, 2012, in its entirety.

Assessment

The Department will instruct U.S. Customs and Border Protection (CBP) to assess antidumping duties on all entries of pencils from the PRC, except for entries exported by Dixon. Antidumping duties shall be assessed at rates equal to the cash deposit of estimated antidumping duties required at the time of entry, or withdrawal from warehouse, for consumption, in accordance with 19 CFR 351.212(c)(1)(i). The Department intends to issue appropriate assessment instructions to CBP 15 days after the date of publication of this notice of rescission of administrative review.

As a result of Pencils 2010-2011 Final, we already terminated the suspension of liquidation for subject merchandise exported by Dixon that was entered, or withdrawn from warehouse, for consumption, on or after December 1, 2011, and instructed CBP to refund, with interest, any cash deposits for such entries.

Notifications

This notice serves as a final reminder to importers of their responsibility under 19 CFR 351.402(f)(2) to file a certificate regarding the reimbursement of antidumping duties prior to liquidation of the relevant entries during this review period. Failure to comply with this requirement could result in the presumption that reimbursement of antidumping duties occurred and the subsequent assessment of doubled antidumping duties.

This notice also serves as a reminder to parties subject to administrative protective order (“APO”) of their responsibility concerning the disposition of proprietary information disclosed under APO in accordance with 19 CFR 351.305(a)(3). Timely written notification of the return or destruction of APO materials or conversion to judicial protective order is hereby requested. Failure to comply with the regulations and terms of an APO is a sanctionable violation.

This notice is in accordance with section 751(a)(1) and 777(i)(1) of the Tariff Act of 1930, as amended, and 19 CFR 351.213(d)(4).

Dated: August 26, 2013.
Gary Taverman,
Senior Advisor for Antidumping and Countervailing Duty Operations.

[FR Doc. 2013-21382 Filed 9-3-13; 8:45 am]

BILLING CODE 3510-DS-P